DEPARTMENT OF HOMELAND SECURITY

Federal Emergency Management Agency

[Docket ID: FEMA-2011-0008]

Agency Information Collection Activities: Submission for OMB Review; Comment Request, 1660-0044; Emergency Management Institute Follow-Up Evaluation Survey

AGENCY: Federal Emergency Management Agency, DHS.

ACTION: Notice; 30-day notice and request for comments; extension, without change, of a currently approved information collection; OMB No. 1660-0044; FEMA Form 519-0-1 (Presently FEMA Form 95-56), Post-Course Evaluation Questionnaire.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before July 27, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Emergency Management Institute Follow-up Evaluation Survey.

Type of Information Collection: Extension, without change, of a currently approved information collection.

OMB Number: OMB No. 1660-0044.

Form Titles and Numbers: FEMA Form 519-0-1 (Presently FEMA Form 95-56), Post-Course Evaluation Questionnaire.

Abstract: The Emergency Management Institute Follow-up Survey allows trainees at the Emergency Management Institute to self-assess the knowledge and skills gained through emergency management-related courses and the extent to which they have been beneficial and applicable in the conduct of their official positions. The information collected is used to review course content and offerings for program planning and management purposes.

Affected Public: Individuals or households, State, local or Tribal government.

Estimated Number of Respondents: 3,800.

Frequency of Response: Once.

Estimated Average Hour Burden per Respondent: .25 burden hours.

Estimated Total Annual Burden Hours: 950 burden hours.

Estimated Cost: There are no annual start-up or capital costs.

Dated: June 13, 2011.
Lesia M. Banks,
Director, Records Management Division, Mission Support Bureau, Federal Emergency Management Agency, Department of Homeland Security.

[FR Doc. 2011-16024 Filed 6-24-11; 8:45 am]

BILLING CODE 9111-27-P